DEPARTMENT OF THE INTERIOR

Bureau of Land Management

[WY-920-1430-00-ET; WYW 149140]

Notice of Proposed Withdrawal and Opportunity for Public Meeting; Wyoming

AGENCY: Bureau of Land Management, Interior.

ACTION: Notice.

SUMMARY: The U.S. Department of Agriculture (USDA), Forest Service, has filed an application to withdraw 40.00 acres of National Forest System lands for 40 years for the protection of the Tie Hack Campground. This notice closes the land for up to 2 years from location and entry under the United States mining laws. The land will remain open to mineral leasing and to all other forms of disposition which may by law be made of National Forest System lands.

DATES: Comments and requests for a public meeting should be received on or before April 18, 2000.

ADDRESSES: Comments and meeting requests should be sent to the BLM, Wyoming State Director, P.O. Box 1828, Cheyenne, WY 82003-1828.

FOR FURTHER INFORMATION CONTACT: Janet Booth, BLM Wyoming State Office, 307-775-6124.

SUPPLEMENTARY INFORMATION: On August 31, 1999, the USDA filed an application to withdraw the following described National Forest System lands from location and entry under the United States mining laws, subject to valid existing rights:

Sixth Principal Meridian, Wyoming

Bighorn National Forest

T. 50 N., R. 84 W.,

sec. 26, NW¼NW¼NW¼;

sec. 27, NE¼NE¼NE¼.

The area described contains 40.00 acres, more or less, in Johnson County, Wyoming.

For a period of 90 days from the date of publication of this notice, all persons who wish to submit comments, suggestions, or objections in connection with the proposed withdrawal may present their views in writing to the Wyoming State Director of the BLM.

Notice is hereby given that an opportunity for a public meeting is afforded in connection with the proposed withdrawal. All interested persons who desire a public meeting for the purpose of being heard on the proposed withdrawal must submit a written request to the BLM Wyoming State Director within 90 days from the date of publication of this notice. Upon determination by the authorized officer that a public meeting will be held, a notice of time and place will be published in the Federal Register at least 30 days before the scheduled date of the meeting.

The application will be processed in accordance with the regulations set forth in 43 CFR 2300.

For a period of 2 years from the date of publication of this notice in the Federal Register, the land will be segregated as specified above unless the application is denied or canceled or the withdrawal is approved prior to that date. During the segregative period, the Forest Service will continue to permit uses within the statutory authorities pertinent to National Forest lands and subject to discretionary approval.

Dated: January 11, 2000.
Michael Madrid,
Acting Deputy State Director, Mineral & Lands Authorizations.

[FR Doc. 00-1159 Filed 1-18-00; 8:45 am]

BILLING CODE 4310-22-P